DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on October 27, 1999 (64 FR 57924-57925).

DATES: Comments must be submitted on or before April 5, 2000.

FOR FURTHER INFORMATION CONTACT: Gary R. Toth at the National Highway Traffic Safety Administration, Office of Research and Development (NRD-32), 202-366-5378. 400 Seventh Street, SW, Room 6213, Washington, DC 20590.

SUPPLEMENTARY INFORMATION:

National Highway Traffic Safety Administration

Title: National Automotive Sampling System (NASS) Crashworthiness Data Systems (CDS).

OMB Number: 2127-0021.

Type of Request: Extension of a currently approved collection.

Abstract: The National Highway Traffic Safety Administration (NHTSA), under the National Traffic and Motor Vehicle Safety Act of 1966 (Pub. L. 89-563, Title 1, Sec. 106, 108, and 112). National Automotive Sampling System (NASS) Crashworthiness Data Systems (CDS), NASS investigates high severity crashes. These descriptions and analyses in turn will help to describe the magnitude of vehicle damage and injury severity as related to traffic safety problems. It will give motor vehicle researchers an opportunity to specify areas in which improvements may be possible, design countermeasure program, and evaluate the effects of existing and proposed safety measures.

Affected Public: Motor vehicle researchers from state, local or tribal governments.

Estimated Total Annual Burden: 5,807

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on March 1, 2000.
Herman L. Simms,
Associate Administrator for Administration.

[FR Doc. 00-5357 Filed 3-3-00; 8:45 am]

BILLING CODE 4910-59-P